DEPARTMENT OF DEFENSE

Office of the Secretary of Defense

Renewal of Department of Defense Federal Advisory Committees

AGENCY: Department of Defense.

ACTION: Notice; Renewal of Federal Advisory Committee.

SUMMARY: Under the provisions of the Federal Advisory Committee Act of 1972, (5 U.S.C. Appendix, as amended), the Government in the Sunshine Act of 1976 (5 U.S.C. 552b, as amended), and 41 CFR 102-3.65, the Department of Defense gives notice that it is renewing the charter for the Defense Health Board (hereafter referred to as the Board).

The Board is a discretionary federal advisory committee established by the Secretary of Defense to provide the Department of Defense provide the Secretary of Defense, through the Assistant Secretary of Defense for Health Affairs and the Under Secretary of Defense for Personnel and Readiness, independent advice and recommendations on matters pertaining to operational programs, policy development, and research programs and requirements for the treatment and prevention of disease and injury, the promotion of health and the delivery of efficient, effective, and high quality health care services to Department of Defense beneficiaries.

The Board shall be composed of not more than thirty members, who are eminent authorities within their respective disciplines related to clinical health care, disease and injury prevention, and health care delivery and administration. The Secretary of Defense, unless otherwise directed by statute, shall approve the appointment of all Board Members and Subcommittee Members, to include regular government employees.

Board Members and Subcommittee Members, who are not full-time or permanent part-time federal officers or employees, shall be appointed as experts and consultants under the authority of 5 U.S.C. 3109, and serve as special government employees.

The appointment of Board Members and Subcommittee Members, unless otherwise directed by statute, shall be reviewed on an annual basis by the Secretary of Defense, and no Board Member or Subcommittee Member shall serve more than four years on the Board. Board Members and Subcommittee Members, unless otherwise directed by statute or as determined by the Secretary of Defense, shall, with the exception of travel and per diem for official travel, serve without compensation.

The Secretary of Defense may appoint regular government officers or employees as Board Members or Subcommittee Members depending upon the individual's qualification or position within the Department of Defense. Regular government employees, who serve on the Board due to their position within the Department of Defense, shall be exempt from annual renewal as long as the Secretary of Defense continues the ex officio status of that position on the Board.

The Secretary of Defense, based upon the recommendations of the Under Secretary of Defense for Personnel and Readiness or designated representatives, shall appoint the President of the Board from the Board membership. The Under Secretary of Defense for Personnel and Readiness, prior to his recommendation, may consult the Board membership. No Board Member shall serve more than two consecutive 2-year terms of service as Board President.

Regular government officers or employees who participate in the Department of Defense's decision making process for this Board are prohibited from serving as Board Members or Subcommittee Members.

The Board shall be authorized to establish subcommittees, as necessary and consistent with its mission, and these subcommittees or working groups shall operate under the provisions of the Federal Advisory Committee Act of 1972, the Government in the Sunshine Act of 1976, and other appropriate federal regulations.

Such subcommittees or workgroups shall not work independently of the chartered Defense Health Board, and shall report all their recommendations and advice to the Board for full deliberation and discussion. Subcommittees or workgroups have no authority to make decisions on behalf of the chartered Board nor can they report directly to the Department of Defense or any federal officers or employees who are not Board members.

FOR FURTHER INFORMATION CONTACT: Jim Freeman, Deputy Committee Management Officer for the Department of Defense, 703-601-6128.

SUPPLEMENTARY INFORMATION: The Board shall meet at the call of the Board's Designated Federal Officer, in consultation with the Board's chairperson. The Designated Federal Officer, pursuant to DoD policy, shall be a full-time or permanent part-time DoD employee, and shall be appointed in accordance with established DoD policies and procedures. The Designated Federal Officer or duly appointed Alternate Designated Federal Officer shall attend all committee meetings and subcommittee meetings.

Pursuant to 41 CFR 102-3.105(j) and 102-3.140, the public or interested organizations may submit written statements to the Defense Health Board membership about the Board's mission and functions. Written statements may be submitted at any time or in response to the stated agenda of planned meeting of the Defense Health Board.

All written statements shall be submitted to the Designated Federal Officer for the Defense Health Board, and this individual will ensure that the written statements are provided to the membership for their consideration. Contact information for the Defense Health Board's Designated Federal Officer can be obtained from the GSA's FACA Database— https://www.fido.gov/facadatabase/public.asp.

The Designated Federal Officer, pursuant to 41 CFR 102-3.150, will announce planned meetings of the Defense Health Board. The Designated Federal Officer, at that time, may provide additional guidance on the submission of written statements that are in response to the stated agenda for the planned meeting in question.

Dated: November 7, 2008.
Patricia L. Toppings,
OSD Federal Register Liaison Officer, Department of Defense.

[FR Doc. E8-27197 Filed 11-14-08; 8:45 am]

BILLING CODE 5001-06-P